DEPARTMENT OF ENERGY

Federal Energy Regulatory Commission

[Docket No. ER06-615-004; Docket No. ER06-723-001; ER06-723-002; ER06-723-003]

California Independent System Operator Corporation; Notice Rescinding Period for Post-Technical Conference Comments

February 9, 2007.

On February 1, 2007, staff of the Federal Energy Regulatory Commission convened a technical conference to address issues related to the California Independent System Operator Corporation's (CAISO) tariff, which reflects the Market Redesign and Technology Upgrade (MRTU) program. The purpose of the technical conference was to explore and discuss the CAISO's proposed methodology for allocating transmission import capacity in conjunction with resource adequacy requirements in the MRTU Tariff. Two notices were issued prior to the technical conference providing commentors until February 16, 2007, to file post-technical conference comments with the Comission.¹

¹ See Notice of Technical Conference, Docket No. ER06-615-004 (Dec. 27, 2006); See also Notice of Staff Technical Conference and Agenda, Docket No. ER06-615-004 (Jan. 18, 2007).

This notice rescinds the previously-announced February 16, 2007 period to file post-technical conference comments with the Commission. Instead, commentors should submit their comments with the CAISO, consistent with the directions given by the CAISO in its February 7, 2007 market notice,² in anticipation of the CAISO preparation of a tariff filing under section 205 ³ of the Federal Power Act setting forth a methodology for allocating transmission import capacity in conjunction with resource adequacy requirements in the MRTU Tariff.

² California ISO Market Notice: Resource Adequacy Import Allocation Revision Process (Feb. 7, 2007), http://www.caiso.com/1b7e/1b7ebe5238962.html.

³ 16 U.S.C. 824d (2000).

For more information, please contact Aileen Roder at 202-502-6022, aileen.roder@ferc.gov, or Shawn Bennett at 202-502-8930, shawn.bennett@ferc.gov.

Magalie R. Salas,
Secretary.

[FR Doc. E7-2699 Filed 2-15-07; 8:45 am]

BILLING CODE 6717-01-P